DEPARTMENT OF INTERIOR

Bureau of Land Management

[MT010-1220-AA]

Amendment to Notice of Closure of Public Land to Certain Uses in Yellowstone County, MT

ACTION: Notice; amendment.

SUMMARY: The Bureau of Land Management published a document in the Federal Register of October 14, 1999, closing 765 acres of public land to the use of motorized vehicles and mechanized vehicles, the discharge of firearms, horseback riding, hang gliding, and rock climbing. This notice will amend the closure to the area known as Four Dances Natural Area (formerly known as the Sacrifice Cliff or the Larsen property) to include closure to the use of Blowguns or Bow & Arrow. This area is also closed to killing or any attempt to kill animals without a special permit.

FOR FURTHER INFORMATION CONTACT: David Jaynes, 406-896-5013.

Dated: June 14, 2000.
David Jaynes,
Assistant Field Manager.

[FR Doc. 00-15464 Filed 6-19-00; 8:45 am]

BILLING CODE 4310-$$-P